DEPARTMENT OF EDUCATION

Office of Innovation and Improvement; Overview Information; Charter Schools Program (CSP) Grants for Replication and Expansion of High-Quality Charter Schools; Notice Inviting Applications for New Awards for Fiscal Year (FY) 2010

Catalog of Federal Domestic Assistance (CFDA) Number: 84.282M.

Dates:

Applications Available: May 24, 2010.

Date of Pre-Application Meeting: June 8, 2010.

Deadline for Transmittal of Applications: July 7, 2010.

Deadline for Intergovernmental Review: September 7, 2010.

Full Text of Announcement

I. Funding Opportunity Description

Purpose of Program: The purpose of the CSP is to increase national understanding of the charter school model and to expand the number of high-quality charter schools available to students across the Nation by providing financial assistance for the planning, program design, initial implementation, or expansion of charter schools, and to evaluate the effects of charter schools, including their effects on students, student academic achievement, staff, and parents.

The purpose of this competition (CFDA 84.282M) is to award grants to eligible applicants to enable them to replicate or expand high-quality charter schools with demonstrated records of success, including success in increasing student academic achievement. Eligible applicants may use their CSP funds to expand the enrollment of one or more existing charter schools by substantially increasing the number of available seats per school, or to open one or more new charter schools that are based on the charter school model for which the eligible applicant has presented evidence of success.

Priorities: This competition includes one absolute priority, three competitive preference priorities, and one invitational priority. We are establishing these priorities for the FY 2010 grant competition and any subsequent year in which we make awards from the list of unfunded applicants from this competition, in accordance with section 437(d)(1) of the General Education Provisions Act (GEPA), 20 U.S.C. 1232(d)(1).

Absolute Priority: This priority is an absolute priority. Under 34 CFR 75.105(c)(3) we consider only applications that meet this priority.

This priority is:

Experience Operating or Managing High-Quality Charter Schools

The applicant must have experience operating or managing more than one high-quality charter school. For purposes of this priority, a high-quality charter school is a school that shows evidence of strong academic results, based on the criteria described in Selection Criterion (a), and has no significant issues in the areas of student safety, financial management, or statutory or regulatory compliance. For purposes of this competition, significant issue means something that did, will, or could lead to the revocation of a school's charter.

Competitive Preference Priorities: These priorities are competitive preference priorities. Under 34 CFR 75.105(c)(2)(i) we will award up to an additional 30 points to an application, depending on how well the application meets one or more of these priorities.

Note: In order to receive preference under these competitive preference priorities, the applicant must identify the priority or priorities that it believes it meets and provide documentation supporting its claims.

These priorities are:

Competitive Preference Priority 1—Low-Income Demographic (up to 10 points). To meet this competitive preference priority, the applicant must demonstrate that at least 60 percent of all students in the charter schools it operates or manages are individuals from low-income families.

For purposes of this priority, the term individual from a low-income family means an individual who is determined by a State educational agency (SEA) or local educational agency (LEA) to be a child, ages 5 through 17, from a low-income family, on the basis of (i) data used by the Secretary to determine allocations under section 1124 of the Elementary and Secondary Education Act of 1965, as amended (ESEA), (ii) data on children eligible for free or reduced-price lunches under the National School Lunch Act, (iii) data on children in families receiving assistance under part A of title IV of the Social Security Act, or (iv) data on children eligible to receive medical assistance under the Medicaid program under Title XIX of the Social Security Act, or (v) an alternate method that combines or extrapolates from those data (see section 1707(3) of the ESEA).

Competitive Preference Priority 2—School Improvement (up to 10 points). To meet this competitive preference priority, the applicant must demonstrate that its proposed replication or expansion of one or more high-quality charter schools is in partnership with, and designed to assist, one or more LEAs in implementing academic or structural interventions to serve students attending schools that have been identified for improvement, corrective action, closure, or restructuring under section 1116 of the ESEA, and as described in the notice of final requirements for the School Improvement Grants, published in the Federal Register on December 10, 2009 (74 FR 65618).

Competitive Preference Priority 3—Matching (up to 10 points). To meet this competitive preference priority, the applicant must commit to provide matching funds in an amount equal to or greater than 25 percent of the grant award to support its proposed project under this program. In order to secure matching funds and meet this competitive preference priority, the applicant may enter into a partnership or otherwise collaborate with other entities, including philanthropic organizations.

In order to receive points under this competitive preference priority, the matching funds must be included in the proposed budget and used to cover allowable costs. In addition, the applicant must include in its application assurances documentation demonstrating that it will be able to secure the specified matching funds. An applicant that is approved for a grant must have the proposed matching funds in place prior to receiving the grant award.

Invitational Priority: This priority is an invitational priority. Under 34 CFR 75.105(c)(1) we do not give an application that meets this invitational priority a competitive or absolute preference over other applications.

This priority is:

Students With Disabilities and English Learners

The Secretary is particularly interested in applicants that demonstrate through participant, achievement, and outcome data for students with disabilities and English learners—

(1) Prior success in improving educational achievement and outcomes for students with disabilities and English learners; and

(2) That the model they propose to replicate or expand serves students with disabilities and English learners at rates comparable to the rates of students with disabilities and English learners in the LEAs in which their schools operate.

Requirements

(1) Grantees under this program must use the grant funds to replicate or substantially expand an existing high-quality charter school that is based on the model or models for which the applicant has presented evidence of success.

For purposes of this competition, the term replicate means to open one or more new charter schools that are based on the charter school model or models for which the applicant has presented evidence of success.

In addition, in the context of this competition, the term substantially expand means to increase the enrollment of one or more existing charter schools by more than 50 percent or to add at least two grades to an existing charter school over the course of the grant.

(2) Applicants approved for funding under this competition must attend a two-day meeting for project directors in the Washington, DC area during each year of the project. Applicants are encouraged to include the cost of attending this meeting in their proposed budgets.

Waiver of Proposed Rulemaking: Under the Administrative Procedure Act (5 U.S.C. 553) the Department generally offers interested parties the opportunity to comment on proposed priorities, selection criteria, application requirements, and definitions. Section 437(d)(1) of GEPA, however, allows the Secretary to exempt from rulemaking requirements, regulations governing the first grant competition under a new or substantially revised program authority. This is the first grant competition for the replication and expansion of high-quality charter schools under the Charter Schools Program authority, as described in the Consolidated Appropriations Act, 2010 (Pub. L. 111-117), and, therefore, qualifies for this exemption. In order to ensure timely grant awards, the Secretary has decided to forgo public comment on the priorities, selection criteria, requirements, and definitions in this notice under section 437(d)(1) of GEPA. These priorities, selection criteria, requirements, and definitions will apply to the FY 2010 grant competition and any subsequent year in which we make awards from the list of unfunded applicants from this competition.

Program Authority: 20 U.S.C. 7221-7221j; Consolidated Appropriations Act, 2010, Division D, Title III, Pub. L. 111-117.

Applicable Regulations: The Education Department General Administrative Regulations (EDGAR) in 34 CFR parts 74, 75, 76, 77, 79, 80, 81, 82, 84, 85, 86, 97, 98, and 99.

Note: The regulations in 34 CFR part 79 apply to all applicants except Federally recognized Indian Tribes.

Note: The regulations in 34 CFR part 86 apply only to institutions of higher education.

Note: The regulations in 34 CFR part 99 apply only to an educational agency or institution.

II. Award Information

Type of Award: Discretionary grants.

Estimated Available Funds: The FY 2010 appropriation for the Charter Schools Program is $256,031,000, of which the Department will use $50,000,000 for this competition. Contingent upon the availability of funds, and the quality of the applications, we may make additional awards later in FY 2010 and in FY 2011 from the list of unfunded applicants from this competition.

Estimated Range of Awards: $1,000,000 to $15,000,000 per grant.

Estimated Average Size of Awards: $7,000,000 per grant.

Estimated Number of Awards: 5-8.

Note: The Department is not bound by any estimates in this notice.

Project Period: Up to five years.

III. Eligibility Information

1. Eligible Applicants: Non-profit charter management organizations (CMOs) and other entities that are not for-profit entities. A CMO is an organization that operates or manages multiple charter schools by centralizing or sharing certain functions and resources among schools. Eligible applicants may also apply as a group or consortium.

2. Cost-Sharing or Matching: This competition does not require cost-sharing or matching. This competition provides a competitive preference priority for applications that commit to provide matching funds in an amount equal to or greater than 25 percent of the grant award.

IV. Application and Submission Information

1. Address to Request Application Package: Erin Pfeltz or Richard Payton, U.S. Department of Education, 400 Maryland Avenue, SW., Room 4W255, Washington, DC 20202-5970. Telephone: (202) 205-3525 or (202) 453-7698 or by e-mail: erin.pfeltz@ed.gov or richard.payton@ed.gov.

If you use a telecommunications device for the deaf (TDD), call the Federal Relay Service (FRS), toll free, at 1-800-877-8339.

Individuals with disabilities can obtain a copy of the application package in an accessible format (e.g., Braille, large print, audiotape, or computer diskette) by contacting the program contact person listed in this section.

2. Content and Form of Application Submission: Requirements concerning the content of an application, together with the forms you must submit, are in the application package for this competition.

Page Limit: The application narrative (Part III of the application) is where you, the applicant, address the selection criteria that reviewers use to evaluate your application. The Secretary strongly encourages applicants to limit Part III to the equivalent of no more than 60 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the résumés, the bibliography, or the letters of support. However, the page limit does apply to all of the application narrative section (Part III).

3. Submission Dates and Times: Applications Available: May 24, 2010.

Date of Pre-Application Meeting: The Department will hold a pre-application meeting for prospective applicants on June 8, 2010, from 8:30 a.m. to 11:00 a.m. at the U.S. Department of Education, Barnard Auditorium, 400 Maryland Avenue, SW., Washington, DC. Interested parties are invited to participate in this meeting to discuss the purpose of the program, absolute and competitive priorities, selection criteria, application requirements, submission requirements, and reporting requirements. Interested parties may participate in this meeting either by conference call or in person. This site is accessible by Metro on the Blue, Orange, Green, and Yellow lines at the Seventh Street and Maryland Avenue exit of the L'Enfant Plaza station. After the meeting, program staff will be available from 11:00 a.m. to 12:00 p.m. on that same day to provide information and technical assistance through individual consultation.

Individuals interested in attending this meeting are encouraged to pre-register by e-mailing their name, organization, and contact information with the subject heading PRE-APPLICATION MEETING to CharterSchools@ed.gov. There is no registration fee for attending this meeting.

For further information about the pre-application meeting, contact Erin Pfeltz or Richard Payton, U.S. Department of Education, 400 Maryland Avenue, SW., Room 4W255, Washington, DC 20202-5970. Telephone: (202) 205-3525 or (202) 453-7698 or by e-mail: erin.pfeltz@ed.gov or richard.payton@ed.gov.

Assistance to Individuals With Disabilities at the Pre-Application Meeting

The meeting site is accessible to individuals with disabilities. If you will need an auxiliary aid or service to participate in the meeting (e.g., interpreting service, assistive listening device, or materials in an alternate format), notify the contact person listed in this notice at least two weeks before the scheduled meeting date. Although we will attempt to meet a request we receive after that date, we may not be able to make available the requested auxiliary aid or service because of insufficient time to arrange it.

Deadline for Transmittal of Applications: July 7, 2010.

Applications for grants under this program must be submitted electronically using the Electronic Grant Application System (e-Application) accessible through the Department's e-Grants site. For information (including dates and times) about how to submit your application electronically, or in paper format by mail or hand delivery if you qualify for an exception to the electronic submission requirement, please refer to section IV. 6. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: September 7, 2010.

4. Intergovernmental Review: This program is subject to Executive Order 12372 and the regulations in 34 CFR part 79. Information about Intergovernmental Review of Federal Programs under Executive Order 12372 is in the application package for this program.

5. Funding Restrictions: Pursuant to section 5204(f)(3) of the ESEA (20 U.S.C. 7221c(f)(3)), grantees under this program must use the grant funds for—

(a) Post-award planning and design of the educational program, which may include: (i) Refinement of the desired educational results and of the methods for measuring progress toward achieving those results; and (ii) professional development of teachers and other staff who will work in the charter school; and

(b) Initial implementation or expansion of the charter school, which may include: (i) Informing the community about the school; (ii) acquiring necessary equipment and educational materials and supplies; (iii) acquiring or developing curriculum materials; and (iv) other initial operational costs that cannot be met from State or local sources.

Note: Use of up to 15 percent of grant funds for initial operational costs associated with the expansion or improvement of the eligible entity's oversight or management of its schools is permitted provided that: (i) The specific schools being created or expanded under this grant are beneficiaries of such expansion or improvement, and (ii) such expansion or improvement is intended to improve the applicant's ability to manage or oversee the charter schools created or expanded under this grant.

Applicants should ensure that all costs included in the proposed budget are reasonable and necessary in light of the goals and objectives of the proposed project. Any costs determined by the Secretary to be unreasonable or unnecessary will be removed from the final approved budget. A charter school that receives funds under this competition is ineligible to receive funds for the same purpose under section 5202(c)(2) of the ESEA, including for planning and program design or the initial implementation of a charter school (i.e., CFDA 84.282A or 84.282B).

We reference additional regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements. Applications for grants under this program must be submitted electronically unless you qualify for an exception to this requirement in accordance with the instructions in this section.

a. Electronic Submission of Applications

Applications for grants under the Charter School Program Grants for Replication and Expansion of High-Quality Charter Schools—CFDA Numbers 84.282M must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. E-Application will not accept an application for this program after 4:30 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Erin Pfeltz, U.S. Department of Education, 400 Maryland Avenue, SW., Room 4W255, Washington, DC 20202-5970. FAX: (202) 205-5630.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.282M), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application, by hand, on or before the application deadline date, to the Department at the following address: U.S. Department of Education, Application Control Center, Attention: (CFDA Number 84.282M), 550 12th Street, SW., Room 7041, Potomac Center Plaza, Washington, DC 20202-4260.

The Application Control Center accepts hand deliveries daily between 8:00 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Application Requirements: Applicants applying for CSP grant funds must address both the following application requirements, which are based on the statutory requirements under the program, and the selection criteria described in this notice. An applicant may choose to respond to the application requirements in the context of its responses to the selection criteria.

(a) Describe the objectives of the project for replicating or substantially expanding high-quality charter schools and the methods by which the applicant will determine its progress toward achieving those objectives.

(b) Describe how the applicant currently operates or manages the charter schools for which it has presented evidence of success, and how the proposed new or expanded charter schools will be operated or managed. Include a description of central office functions, governance, daily operations, financial management, human resources management, and instructional management. If applying as a group or consortium, describe the roles and responsibilities of each member of the group or consortium and how each member will contribute to this project.

(c) Describe how the applicant will ensure that each proposed new or expanded charter school receives its commensurate share of Federal education funds that are allocated by formula each year, including during the first year of operation of the school and any year in which the school's enrollment expands significantly.

(d) Describe the educational program to be implemented in the proposed new or expanded charter schools, including how the program will enable all students (including educationally disadvantaged students) to meet challenging State student academic achievement standards, the grade levels or ages of students to be served, and the curriculum and instructional practices to be used. For purposes of this competition, the term “educationally disadvantaged students” includes, but is not necessarily limited to, economically disadvantaged children, English learners, migratory children, children with disabilities, Native American children, and neglected or delinquent children.

(e) Describe the administrative relationship between the charter schools to be replicated or expanded by the applicant and the authorized public chartering agency.

(f) Describe how the applicant will provide for continued operation of the proposed new or expanded charter schools once the Federal grant has expired.

(g) Describe how parents and other members of the community will be involved in the planning, program design, and implementation of the proposed new or expanded charter schools.

(h) Include a request and justification for waivers of any Federal statutory or regulatory provisions that the applicant believes are necessary for the successful operation of the proposed new or expanded charter schools and a description of any State or local rules, generally applicable to public schools, that will be waived for, or otherwise not apply to, such charter schools.

(i) Describe how the grant funds will be used, including how these funds will be used in conjunction with other Federal programs administered by the Secretary, and with any matching funds.

(j) Describe how students in the community, including students with disabilities, English learners and other educationally disadvantaged students, will be informed about the proposed new or expanded charter schools and given an equal opportunity to attend such schools. For a definition of educationally disadvantaged students, see paragraph (d) of these Application Requirements.

(k) Describe how the proposed new or expanded charter schools that are considered to be LEAs under State law, or the LEAs in which such charter schools are located, will comply with sections 613(a)(5) and 613(e)(1)(B) of the Individuals with Disabilities Education Act.

(l) Provide information on any significant issues in the areas of student safety, financial management, and statutory or regulatory compliance. As noted in the absolute priority, for purposes of this competition, “significant” means something that did, will, or could lead to the revocation of a school's charter.

2. Selection Criteria. We are establishing these selection criteria for the FY 2010 grant competition and any subsequent year in which we make awards from the list of unfunded applicants from this competition, in accordance with section 437(d)(1) of GEPA, 20 U.S.C. 1232(d)(1). The maximum possible score for all the criteria in this section is 100 points. The maximum possible score for each criterion is indicated in parentheses following the criterion.

In evaluating an application, the Secretary considers the following criteria:

(a) Quality of the eligible applicant (50 points). In determining the quality of the applicant, the Secretary considers the following factors:

(i) The degree to which the applicant has demonstrated success in significantly increasing student academic achievement and attainment for all students, including educationally disadvantaged students, served by charter schools operated or managed by the applicant. For a definition of educationally disadvantaged students, see paragraph (d) of the Application Requirements in this notice.

(ii) The degree to which the applicant has demonstrated success in closing historic achievement gaps for the subgroups of students described in section 1111(b)(2)(C)(v)(II).

(iii) The degree to which the applicant has achieved results for low-income and minority students that are significantly above the average academic achievement results for such students in the State.

Applicants are invited to submit objective data that they believe would provide relevant information in support of these three factors, along with comparison data for similar schools, where available. In particular, the Secretary is interested in the following data: (1) Performance (school-wide and by subgroup) on statewide tests of all charter schools operated or managed by the applicant as compared to all students in other schools in the State or States at the same grade level, and as compared with other schools serving similar demographics of students; (2) annual student attendance and retention rates (school-wide and by subgroup), and comparisons with other similar schools; (3) where applicable and available, high school graduation rates, college attendance rates, and college persistence rates (school-wide and by subgroup) of students attending schools operated or managed by the applicant. When reporting data for schools in States that may have particularly demanding or low standards of proficiency (for example, see the report available at http://nces.ed.gov/nationsreportcard/pdf/studies/2010456.pdf), applicants are invited to discuss how their academic success might be considered against applicants from across the country.

(b) Contribution in assisting educationally disadvantaged students (15 points). The contribution the proposed project will make in assisting educationally disadvantaged students served by the applicant to meet or exceed State academic content standards and State student academic achievement standards, and to graduate college- and career-ready. For a definition of educationally disadvantaged students, see paragraph (d) of the Application Requirements in this notice.

(c) Quality of the project design (10 points). The Secretary considers the quality of the design of the proposed project. In determining the quality of the design of the proposed project, the Secretary considers—

(i) The extent to which the goals, objectives, and outcomes to be achieved by the proposed project are clearly specified, measurable, and attainable. Applicants proposing to open schools serving substantially different populations than those currently served by the model for which they have demonstrated evidence of success should address the attainability of outcomes given this difference.

(ii) The extent to which the design for implementing and evaluating the proposed project will result in information to guide possible replication of project activities or strategies, including information about the effectiveness of the approach or strategies employed by the project.

(d) Quality of the management plan (25 points). The Secretary considers the quality of the management plan and personnel to replicate and expand high-quality charter schools. In determining the quality of the management plan and personnel for the proposed project, the Secretary considers:

(i) The adequacy of the management plan to achieve the objectives of the proposed project on time and within budget, including clearly defined responsibilities, timelines, and milestones for accomplishing project tasks.

(ii) The business plan for increasing, sustaining, and ensuring the quality and performance of charter schools opened under this program beyond the initial period of Federal funding, including, but not limited to facilities, financials, central office, academics, governance, oversight, and human resources of the schools.

(iii) A multi-year financial and operating model for the organization, as well as a demonstrated commitment of current and future partners, and evidence of broad support form stakeholders critical to the project's long-term success.

(iv) A plan for closing charter schools supported, overseen, or managed by the applicant that do not meet high standards of quality.

(v) The qualifications, including relevant training and experience, of the project director, CEO/organization leader, and key project personnel, especially in managing projects of the size and scope of the proposed project.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary in 34 CFR 75.118. The Secretary may also require more frequent performance reports under 34 CFR 75.720(c). For specific requirements on reporting, please go to http://www.ed.gov/fund/grant/apply/appforms/appforms.html.

4. Performance Measures: The goal of the CSP is to support the creation and development of a large number of high-quality charter schools that are free from State or local rules that inhibit flexible operation, are held accountable for enabling students to reach challenging State performance standards, and are open to all students. The Secretary has two performance indicators to measure progress towards this goal: (1) The number of charter schools in operation around the Nation, and (2) the percentage of fourth- and eighth-grade charter school students who are achieving at or above the proficient level on State examinations in mathematics and reading/language arts. Additionally, the Secretary has established the following measure to examine the efficiency of the CSP: Federal cost per student in implementing a successful school (defined as a school in operation for three or more consecutive years).

All grantees will be expected to submit an annual performance report documenting their contribution in assisting the Department in meeting these performance measures.

VII. Agency Contact

For Further Information Contact: Erin Pfeltz or Richard Payton, U.S. Department of Education, 400 Maryland Avenue, SW., Room 4W255, Washington, DC 20202-5970. Telephone: (202) 205-3525 or (202) 453-7698 or by e-mail: erin.pfeltz@ed.gov or richard.payton@ed.gov.

If you use a TDD, call the FRS, toll free, at 1-800-877-8339.

VIII. Other Information

Accessible Format: Individuals with disabilities can obtain this document and a copy of the application package in an accessible format (e.g., braille, large print, audiotape, or computer diskette) on request to the program contact person listed under For Further Information Contact in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 19, 2010.
James H. Shelton, III,
Assistant Deputy Secretary for Innovation and Improvement.

[FR Doc. 2010-12436 Filed 5-21-10; 8:45 am]

BILLING CODE 4000-01-P